DEPARTMENT OF COMMERCE

International Trade Administration

[A-583-816]

Notice of Final Results and Final Rescission in Part of Antidumping Duty Administrative Review: Certain Stainless Steel Butt-Weld Pipe Fittings From Taiwan

AGENCY: Import Administration, International Trade Administration, Department of Commerce.

SUMMARY: On July 2, 2007, the Department of Commerce (“the Department”) published in the Federal Register the preliminary results of the administrative review of the order on certain stainless steel butt-weld pipe fittings from Taiwan. See Certain Stainless Steel Butt-Weld Pipe Fittings From Taiwan: Preliminary Results of Antidumping Duty Administrative Review and Notice of Intent To Rescind in Part, 72 FR 35970 (July 2, 2007) (“Preliminary Results”). The merchandise covered by this order is certain stainless steel butt-weld pipe fittings from Taiwan as described in the “Scope of the Order” section of this notice. The period of review (“POR”) is June 1, 2005, through May 31, 2006. We gave interested parties an opportunity to comment on the preliminary results. Based upon our analysis of the comments received, we did not make any changes to the margin calculation. The final weight-averaged dumping margin is listed below in the section titled “Final Results of Review.”

EFFECTIVE DATE: January 7, 2008.

FOR FURTHER INFORMATION CONTACT: Judy Lao or John Drury, Office 7, AD/CVD Operations, Import Administration, International Trade Administration, U.S. Department of Commerce, 14th Street and Constitution Avenue, NW, Washington, DC 20230; telephone: (202) (202) 482-7924 or (202) 482-0195, respectively.

SUPPLEMENTARY INFORMATION:

Background

The Department's preliminary results of review were published on July 2, 2007. See Preliminary Results. We invited parties to comment on the Preliminary Results. Subsequent to our Preliminary Results, on July 11, 2007, we issued Ta Chen Stainless Steel Pipe, Ltd. (“Ta Chen”), a supplemental questionnaire requesting additional information regarding its reporting of affiliates. See Preliminary Results at 72 FR 35971. Ta Chen submitted its response to our July 11, 2007, affiliations questionnaire on July 27, 2007. On August 10, 2007, Flowline Division of Markovitz Enterprise, Inc., Shaw Allow Piping Products, Inc., Gerlin, Inc., and Taylor Forge Stainless, Inc., (collectively, “petitioners”) commented on Ta Chen's July 11, 2007, affiliations questionnaire response. On August 22, 2007, Ta Chen responded to petitioners' August 10, 2007 comments regarding its affiliations questionnaire response. We received case briefs from petitioners on September 10, 2007, and case briefs from Ta Chen on September 11, 2007. On September 17, 2007, we received rebuttal comments from petitioners and Ta Chen. Petitioners requested a hearing, which was conducted on September 20, 2007.

Scope of the Order

The products subject to this order are certain stainless steel butt-weld pipe fittings, whether finished or unfinished, under 14 inches inside diameter. Certain welded stainless steel butt-weld pipe fittings (“pipe fittings”) are used to connect pipe sections in piping systems where conditions require welded connections. The subject merchandise is used where one or more of the following conditions is a factor in designing the piping system: (1) Corrosion of the piping system will occur if material other than stainless steel is used; (2) contamination of the material in the system by the system itself must be prevented; (3) high temperatures are present; (4) extreme low temperatures are present; and (5) high pressures are contained within the system. Pipe fittings come in a variety of shapes, with the following five shapes the most basic: “elbows,” “tees,” “reducers,” “stub ends,” and “caps.” The edges of finished pipe fittings are beveled. Threaded, grooved, and bolted fittings are excluded from this review. The pipe fittings subject to this order are classifiable under subheading 7307.23.00 of the Harmonized Tariff Schedule of the United States (“HTSUS”). Although the HTSUS subheading is provided for convenience and customs purposes, our written description of the scope of this order is dispositive. Pipe fittings manufactured to American Society of Testing and Materials specification A774 are included in the scope of this order.

Partial Rescission of Review

In the Preliminary Results, the Department issued a notice of intent to rescind the review with respect to Liang Feng Stainless Steel Fitting Co., Ltd. (“Liang Feng”), Tru-Flow Industrial Co., Ltd. (“Tru-Flow”), Censor International Corporation (“Censor”) and PFP Taiwan Co., Ltd. (“PFP”), because we found that they had no entries of subject merchandise during the POR. See Preliminary Results at 35971. As the Department received no comments on our intent to rescind, we continue to find that rescission of the review concerning Liang Feng, Tru-Flow, Censor, and PFP is appropriate. Therefore, the Department is rescinding the review with respect to Liang Feng, Tru-Flow, Censor, and PFP.

Analysis of Comments Received

All issues raised in the case briefs, as well as the Department's findings, in this administrative review are addressed in the Issues and Decision Memorandum for the Administrative Review of Certain Stainless Steel Butt-Weld Pipe Fittings from Taiwan; Final Results of Antidumping Duty Administrative Review (“Decision Memorandum”), dated December 27, 2007, which is hereby adopted by this notice. A list of the issues raised and to which we have responded in the Decision Memorandum, is appended to this notice. The Decision Memorandum is on file in the Central Records Unit in room B-099 of the main Commerce building, and can also be accessed directly on the Web at http://ia.ita.doc.gov. The paper copy and electronic version of the public version of the Decision Memorandum are identical in content.

Affiliation

In the Preliminary Results the Department noted that in this proceeding there is an ongoing claim by petitioners that Ta Chen and its U.S. affiliate, Ta Chen International (“TCI”) have several related parties that were not disclosed in its financial statements. See Preliminary Results at 72 FR 35971. Therefore, petitioners claim that the Department should not rely on Ta Chen's and TCI's financial statements, and thus its underlying accounting records. The Department noted its intent to solicit additional information from Ta Chen regarding its current affiliation with certain entities alleged by petitioners. As mentioned in the “Background” section of this notice, the Department issued Ta Chen an additional supplemental questionnaire on July 27, 2007, regarding alleged affiliates. Based upon our analysis of Ta Chen's responses, we continue to find, as in our Preliminary Results, that Ta Chen and TCI accurately disclosed their related parties, and that their financial statements are reliable. Therefore, the Department has relied upon information from Ta Chen's and TCI's financial statements, and thus underlying accounting records for the purposes of our final results of review. The Department determines that the evidence on the record does not warrant a finding that we should disregard Ta Chen's or TCI's financial statements. See Decision Memorandum at Comment 1 for further discussion.

Final Results of Review

As a result of our review, we determine that the following weighted-average margin exists for the period June 1, 2005, through May 31, 2006:

| Weighted-Average Margin
Ta Chen Stainless Pipe Co., Ltd | 0.52 percent

Assessment Rates

The Department will determine, and U.S. Customs and Border Protection (“CBP”) shall assess, antidumping duties on all appropriate entries, pursuant to section 751(a)(1)(B) of the Act and 19 CFR 351.212(b). The Department calculated importer-specific duty assessment rates on the basis of the ratio of the total amount of antidumping duties calculated for the examined sales to the total entered value of the examined sales for that importer. Where the assessment rate is above de minimis, we will instruct CBP to assess duties on all entries of subject merchandise produced by Ta Chen. Antidumping duties for the rescinded companies, Liang Feng, Tru-Flow, Censor, and PFP, shall be assessed at rates equal to the cash deposit of estimated antidumping duties required at the time of entry, or withdrawal from warehouse, for consumption, in accordance with 19 CFR 351.212(c)(1)(i). The Department intends to issue appropriate assessment instructions to CBP 15 days after the date of publication of these final results of review.

The Department clarified its “automatic assessment” regulation on May 6, 2003 (68 FR 23954). This clarification applies to POR entries of subject merchandise produced by companies examined in this review (i.e., companies for which a dumping margin was calculated) where the companies did not know that their merchandise was destined for the United States. In such instances, we will instruct CBP to liquidate unreviewed entries at the all-others rate if there is no rate for the intermediate company(ies) involved in the transaction. For a full discussion of this clarification, see Antidumping and Countervailing Duty Proceedings: Assessment of Antidumping Duties, 68 FR 23954 (May 6, 2003).

Cash Deposit Requirements

The following cash deposit requirements will be effective upon publication of the final results of this administrative review for all shipments of stainless steel butt-weld pipe fittings from Taiwan entered, or withdrawn from warehouse, for consumption on or after the publication date of these final results, as provided by section 751(a) of the Act: (1) for the companies covered by this review, the cash deposit rate will be the rate listed above; (2) for merchandise exported by producers or exporters not covered in this review but covered in the less-than-fair-value investigation, the cash deposit rate will continue to be the company-specific rate from the most recent review; (3) if the exporter is not a firm covered in this review, a prior review, or less-than-fair-value the investigation, but the producer is, the cash deposit rate will be that established for the most recent period for the producer of the merchandise; and (4) the cash deposit rate for all other producers or exporters will be 51.01 percent, the all-others rate established in the less-than-fair-value investigation. These deposit requirements shall remain in effect until further notice.

Notification of Interested Parties

This notice also serves as a final reminder to importers of their responsibility under 19 CFR 351.402 (f) to file a certificate regarding the reimbursement of antidumping duties prior to liquidation of the relevant entries during this review period. Failure to comply with this requirement could result in the Secretary's presumption that reimbursement of antidumping duties occurred, and in the subsequent assessment of double antidumping duties.

This notice also is the only reminder to parties subject to administrative protective order (“APO”) of their responsibility concerning the return or destruction of proprietary information disclosed under APO in accordance with 19 CFR 351.305. Timely written notification of the return/destruction of APO materials or conversion to judicial protective order is hereby requested. Failure to comply with the regulations and the terms of an APO is a sanctionable violation.

We are issuing and publishing these results and notice in accordance with sections 751(a)(1) and 777(i)(1) of the Act.

Dated: December 27, 2007.
Stephen J. Claeys,
Acting Assistant Secretary for Import Administration.

APPENDIX - Issues in Decision Memorandum

ISSUES

1. Reliability of Ta Chen's Financial Statements & Reported Affiliations

2. CEP Offset

3. LOT Adjustment

4. CEP Profit Calculation

[FR Doc. E7-25644 Filed 1-4-08; 8:45 am]

BILLING CODE: 3510-DS-S